ENVIRONMENTAL PROTECTION AGENCY

[EPA R08-OW-2019-0404; FRL—10012-05-OMS]

Information Collection Request Submitted to OMB for Review and Approval; Comment Request; Filter Adoption Survey (New)

AGENCY: Environmental Protection Agency (EPA).

ACTION: Notice.

SUMMARY: The Environmental Protection Agency (EPA) has submitted an information collection request (ICR), Filter Adoption Survey (EPA ICR Number 2615.01, OMB Control Number 2008-New) to the Office of Management and Budget (OMB) for review and approval in accordance with the Paperwork Reduction Act. This is a request for approval of a new collection. Public comments were previously requested via the Federal Register on March 12, 2020 during a 60-day comment period. This notice allows for an additional 30 days for public comments. A fuller description of the ICR is given below, including its estimated burden and cost to the public. An agency may not conduct or sponsor and a person is not required to respond to a collection of information unless it displays a currently valid OMB control number.

DATES: Additional comments may be submitted on or before August 10, 2020.

ADDRESSES: Submit your comments, referencing Docket ID Number EPA-R08-OW-2019-0404, to (1) EPA online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Angelique Diaz, Ph.D., P.E., Section Chief, Drinking Water Section B, Water Division, 8WD-SDB, Environmental Protection Agency Region 8, 1595 Wynkoop Street Denver, Colorado 80202-1129; telephone number: (303)312-6344; email address: diaz.angelique@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Denver Water is a public water system which must comply with applicable requirements of the lead and copper rule (LCR). On September 6, 2019 Denver Water submitted to the U.S. Environmental Protection Agency Region 8 office a request for a Variance from the optimal corrosion control treatment requirements under the Safe Drinking Water Act's LCR. The request included a multi-pronged approach to result in at least as efficient lead removal to orthophosphate, the designated optimal corrosion control treatment. Three of those prongs of the variance request are: PH and alkalinity adjustments to reduce corrosivity of the water; accelerated lead service line removal; and a filter program where Denver Water will distribute pitcher filters to consumers with known, suspected, and possible lead service lines. Under section 1415(a)(3) of the Safe Drinking Water Act, on December 16, 2019, the U.S. EPA granted Denver Water a variance from the definition of “optimal corrosion control treatment” in 40 CFR 141.2. The Variance contains requirements to determine the efficacy the filter program. EPA will use the survey results that Denver Water annually distributes to determine the consumer filter adoption rate, and to confirm whether customers are using and maintaining the filters correctly, and per manufacturer's instructions. Each year, the filter adoption survey will be sent by Denver Water via postal mail to as many as 20,000 consumers that have known, suspected, and possible lead service lines. Surveys will be sent via direct mailings and will include an online completion option (the survey questions are included below). Direct mailings will be sent with a unique QR code to track which addresses responses have been received from. Surveys will be sent out in both English and Spanish. Additionally, Denver Water will annually conduct, in person surveys at a minimum of 50 locations in use by customers enrolled in the filter program. Information being collected is information on if, and how, consumers use the filter (e.g., for drinking, cooking, or making infant-fed formula), whether the customers are using and maintain the filters correctly (e.g., washing, replacing the filters per manufacturer's instructions), as well as demographic information to inform filter adoption rate by neighborhood or demographic group so Denver Water's health equity and environmental justice principles set forth in their variance request can be evaluated.

Form Numbers: 6700-009.

Respondents/affected entities: Customers of Denver Water or of other integrated systems that have either known or suspected lead service lines (LSLs).

Respondent's obligation to respond: Voluntary.

Estimated number of respondents: 20,001 (per year).

Frequency of response: Annually for three years.

Total estimated burden: 1,270 hours (per year). Burden is defined at 5 CFR 1320.03(b).

Total estimated cost: $100,262 per year, includes $1,000 annualized capital or operations & maintenance costs.

Changes in the Estimates: This is a new collection and therefore there are no changes in burden.

Courtney Kerwin,
Director, Regulatory Support Division.

[FR Doc. 2020-14822 Filed 7-9-20; 8:45 am]

BILLING CODE 6560-50-P